ENVIRONMENTAL PROTECTION AGENCY

[EPA-HQ-OW-2018-0241; FRL-9985-18-OW]

Proposed Information Collection Request; Comment Request; Information Collection Request for Contaminant Occurrence Data in Support of EPA's Fourth Six-Year Review of National Primary Drinking Water Regulations; EPA ICR No. 2574.01, OMB Control No. 2040-NEW

AGENCY: Environmental Protection Agency (EPA).

ACTION: Notice.

SUMMARY: The Environmental Protection Agency (EPA) is planning to submit an information collection request (ICR), “Information Collection Request for Contaminant Occurrence Data in Support of the EPA's Fourth Six-Year Review of National Primary Drinking Water Regulations” (EPA ICR No. 2574.01, OMB Control No. 2040-NEW), to the Office of Management and Budget (OMB) for review and approval in accordance with the Paperwork Reduction Act (PRA; 44 U.S.C. 3501 et seq.). Before doing so, the EPA is soliciting public comments on specific aspects of the proposed, voluntary information collection as described in the SUPPLEMENTARY INFORMATION section. This is a request for approval of a new collection.

DATES: Comments must be submitted on or before December 4, 2018.

ADDRESSES: Submit your comments, referencing Docket ID No. EPA-HQ-OW-2018-0421, online using www.regulations.gov (our preferred method), by email to ow-docket@epa.gov, or by mail to: EPA Docket Center, Environmental Protection Agency, Mail Code 28221T, 1200 Pennsylvania Ave. NW, Washington, DC 20460.

The EPA's policy is that all comments received will be included in the public docket without change, including any personal information provided, unless the comment includes profanity, threats, information claimed to be Confidential Business Information (CBI), or other information whose disclosure is restricted by statute.

FOR FURTHER INFORMATION CONTACT: Kesha Forrest, (202) 564-3632, or Nicole Tucker, (202) 564-1946, Office of Ground Water and Drinking Water, Standards and Risk Management Division (4607M), Environmental Protection Agency, 1200 Pennsylvania Ave. NW, Washington, DC 20460; email address: forrest.kesha@epa.gov or tucker.nicole@epa.gov.

SUPPLEMENTARY INFORMATION: Supporting documents that explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about the EPA's public docket, visit http://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB.

Abstract: The Safe Drinking Water Act (SDWA), as amended in 1996, requires that the EPA review existing National Primary Drinking Water Regulations (NPDWRs) no less often than every six years. This routine evaluation is referred to as the “Six-Year Review of National Primary Drinking Water Regulations” or simply, the “Six-Year Review.” Throughout the Six-Year Review process, the EPA reviews and assesses new data to determine risks to human health posed by regulated drinking water contaminants and identifies NPDWRs which may be appropriate for revision.

The EPA completed and published review results for the first Six-Year Review cycle (1996-2002) on July 18, 2003 (68 FR 42908). The occurrence assessments for the first Six-Year Review were based on compliance monitoring from a cross-section of 16 states, collected from 1993 to 1997, which were voluntarily provided by the states.

The EPA completed and published review results for the second Six-Year Review cycle (2003-2009) on March 29, 2010 (75 FR 15500). The occurrence assessments conducted for the second Six-Year Review are based on data collected between 1998 and 2005, voluntarily submitted by states and other drinking water primary enforcement (primacy) agencies (i.e., the District of Columbia, the Commonwealth of Puerto Rico, the Virgin Islands, Guam, American Samoa, the Commonwealth of the Northern Mariana Islands, the Trust Territory of the Pacific Islands, or an eligible Indian tribe).

The EPA completed and published review results for the third Six-Year Review cycle (2010-2016) on January 11, 2017 (82 FR 3518). The occurrence assessments conducted for the third Six-Year Review are based on contaminant occurrence and treatment techniques data collected between 2006 and 2011, voluntarily submitted by states and other drinking water primacy agencies.

The EPA created this new ICR to continue to engage states and other drinking water primacy agencies in data collection efforts. For this ICR, the EPA is soliciting states and other primacy agencies to (voluntarily) provide historical compliance monitoring (contaminant occurrence) data for community water systems (CWSs) and non-transient non-community water systems (NTNCWSs) to the Agency in support of the fourth Six-Year Review. The EPA is requesting contaminant occurrence and treatment techniques data collected from 2012 to 2018 for all regulated chemical, radiological, and microbial contaminants, including data collected for the Revised Total Coliform Rule, newly promulgated since the third Six-Year Review information collection.

The compliance monitoring records for this information collection (including all results for analytical detections and non-detections) provide the data needed to conduct statistical estimates of national occurrence for regulated contaminants and evaluate treatment technique information associated with the control of pathogens, disinfectants, and disinfection byproducts. The national occurrence estimates and information on treatment techniques will support the SDWA section 1412(b)(9) mandate that requires the EPA to review the existing NPDWRs and determine whether revisions are appropriate. In addition, SDWA section 1445(g) requires the EPA to maintain a national drinking water contaminant occurrence database (i.e., the National Contaminant Occurrence Database (NCOD)), using occurrence data for both regulated and unregulated contaminants in public water systems (PWSs). This data collection will provide new occurrence data on regulated contaminants to maintain the NCOD.

It is in the interest of the EPA to minimize the burden on states (and other drinking water primacy agencies) by allowing submission of data in virtually any electronic format, and to provide states that use the Safe Drinking Water Information System State Versions (SDWIS/State) with extraction scripts if requested.

Form Numbers: None.

Respondents/affected entities: States and other drinking water primacy agencies.

Respondent's obligation to respond: The EPA is issuing this ICR as a one-time request for states and other drinking water primacy agencies to voluntarily submit historical, compliance monitoring data for the fourth Six-Year Review, to meet the SDWA statutory requirements. In addition, this data collection will provide new occurrence data on regulated contaminants to maintain the NCOD required by the SDWA.

Estimated number of respondents: 56 (total).

Frequency of response: One time only.

Total estimated burden: 765 hours (per year). Burden is defined at 5 CFR 1320.03(b).

The annual public reporting and recordkeeping burden for this collection of information is estimated to average 13.7 hours per state (or other water drinking water primacy agency).

Burden means the total time, effort, or financial resources expended by persons to generate, maintain, retain, or disclose or provide information to or for a federal agency. This includes the time needed to review instructions; develop, acquire, install, utilize technology and systems for the purposes of collecting, validating, and verifying information, processing and maintaining information, and disclosing and providing information; adjust the existing ways to comply with any previously applicable instructions and requirements, which have subsequently changed; train personnel to be able to respond to a collection of information; search data sources; complete and review the collection of information; and transmit or otherwise disclose the information.

Total estimated cost: $43,000 (per year), includes $0 annualized capital or operation and maintenance costs.

Dated: September 28, 2018.
Peter Grevatt,
Director, Office of Ground Water and Drinking Water.

[FR Doc. 2018-21751 Filed 10-4-18; 8:45 am]

BILLING CODE 6560-50-P